DEPARTMENT OF HOUSING AND URBAN DEVELOPMENT

[Docket No. FR 4738-N-02]

Notice of Proposed Information Collection; Notice of Funding Availability (NOFA) for Healthy Homes and Lead Hazard Programs (Lead-Based Paint Hazard Control Grant Program, Healthy Homes Demonstration Grant Program, the Operation Lead Elimination Action Program, and the Healthy Homes and Lead Technical Studies Grant Program

AGENCY: Office of Healthy Homes and Lead Hazard Control, HUD.

ACTION: Notice.

SUMMARY: The proposed information collection requirement concerning the Notice of Funding Availability for Healthy Homes and Lead Hazard Programs will be submitted to the Office of Management and Budget (OMB) for review, as required by the Paperwork Reduction Act. The Department is soliciting public comments on the subject proposal.

DATES: Comments due date: October 4, 2002.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Matt Ammon, Department of Housing and Urban Development, 451 7th Street, SW., Room P3206, Washington, DC 20410, telephone number (202) 755-1785 extension 158 (this is not a toll-free number) for copies of the proposed forms and other available documents.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: Notice of Funding Availability (NOFA) for Healthy Homes and Lead Hazard Programs (Lead-Based Paint Hazard Control Grant Program, Healthy Homes Demonstration Grant Program, the Operation Lead Elimination Action Program, and the Healthy Homes and Lead Technical Studies Grant Program).

OMB Control Number: 2539-0015.

Need for the Information and Proposed Use: This information collection is required in conjunction with the issuance of NOFAs announcing the availability of approximately $97,500,000 for Healthy Homes and Lead Hazard Programs (Lead-Based Paint Hazard Control Grant Program, Healthy Homes Demonstration Grant Program, the Operation Lead Elimination Action Program, and the Healthy Homes and Lead Technical Studies Grant Program). Grants are authorized under Title X of the Housing and Community Development Act of 1992, Pub. L. 102-550, Section 1011(g) and other legislation.

Agency For Numbers: None.

Members of Affected Public: Potential applicants include a State, tribal, or unit of local governments. In addition, potential applicants to the Healthy Homes Demonstration Grant Program, the Operation Lead Elimination Action Program, and the Healthy Homes and Lead Technical Studies Grant Program may include not-for-profit institutions and for-profit firms located in the U.S.

Total Burden Estimate (First Year):

Task: Application Development.

Number of Respondents: 225.

Frequency of Response: 1.

Hours of Response: 80.

Burden Hours: 18,000.

Number of copies to be submitted to the Office of Lead Hazard Control for evaluation: Original and four (4) copies.

Award of Grant 65, 1, 16, 1,040.

Total Estimated Burden Hours: 19,040.

Status of the Proposed Information Collection: This is a revision of a currently approved collection.

Authority: The Paperwork Reduction Act of 1995, 44 U.S.C. chapter 35, as amended.

Dated: July 26, 2002.
David E. Jacobs,
Director, Office of Healthy Homes and Lead Hazard Control.

[FR Doc. 02-19596 Filed 8-2-02; 8:45 am]

BILLING CODE 4210-70-M